DEPARTMENT OF ENERGY

Federal Energy Regulatory Commission

Combined Notice of Filings #1

Thursday, November 9, 2006.

Take notice that the Commission received the following electric corporate filings:

Docket Numbers: EC07-13-000.

Applicants: Milford Power Company, LLC; Morgan Stanley & Company, Inc.

Description: Milford Power Company, LLC and Morgan Stanley & Company Incorporated submit an application for order authorizing disposition of jurisdictional facilities under section 203 of the Federal Power Act.

Filed Date: 11/01/2006.

Accession Number: 20061108-0045.

Comment Date: 5 p.m. Eastern Time on Wednesday, November 22, 2006.

Docket Numbers: EC07-14-000.

Applicants: Wisconsin Energy Corporation.

Description: Joint application of Wisconsin Energy Corps, Wisconsin Electric Power Co, et al. for authorization to dispose of jurisdictional facilities and for expedited consideration.

Filed Date: 11/02/2006.

Accession Number: 20061109-0195.

Comment Date: 5 p.m. Eastern Time on Friday, November 24, 2006.

Take notice that the Commission received the following exempt wholesale generator filings:

Docket Numbers: EG07-9-000.

Applicants: Buffalo Gas Wind Farm 2, LLC.

Description: Buffalo Gap Wind Farm 2, LLC submits a notice of self-certification as an exempt wholesale generator.

Filed Date: 11/07/2006.

Accession Number: 20061109-0060.

Comment Date: 5 p.m. Eastern Time on Tuesday, November 28, 2006.

Docket Numbers: EG07-10-000; EG99-142-000.

Applicants: Rathdrum Power, LLC.

Description: Rathdrum Power, LLC submits a Notice of Self-Certification of Exempt Wholesale Generator Status.

Filed Date: 10/30/2006.

Accession Number: 20061030-5058.

Comment Date: 5 p.m. Eastern Time on Monday, November 20, 2006.

Take notice that the Commission received the following electric rate filings:

Docket Numbers: ER97-2801-015: ER03-478-013.

Applicants: PacifiCorp and PPM Energy, Inc.

Description: PacifiCorp & PPM Energy, Inc submits a corrected version of their 3/29/06 compliance filing.

Filed Date: 11/06/2006.

Accession Number: 20061109-0069.

Comment Date: 5 p.m. Eastern Time on Monday, November 27, 2006.

Docket Numbers: ER01-2230-004.

Applicants: New York Independent System Operator, Inc.

Description: Niagara Mohawk Power Corp dba National Grid and New York Independent System Operator, Inc submit a Joint Refund Report and Request for Waiver to Permit Filing Out of Time.

Filed Date: 11/02/2006.

Accession Number: 20061109-0084.

Comment Date: 5 p.m. Eastern Time on Friday, November 24, 2006.

Docket Numbers: ER04-47-002.

Applicants: PB Financial Services, Inc.

Description: PB Financial Services submits its triennial updated market analysis.

Filed Date: 11/07/2006.

Accession Number: 20061109-0104.

Comment Date: 5 p.m. Eastern Time on Tuesday, November 28, 2006.

Docket Numbers: ER06-432-005.

Applicants: Southwest Power Pool, Inc.

Description: Southwest Power Pool, Inc submits revised tariff language to its 3/30/06 compliance filing.

Filed Date: 11/06/2006.

Accession Number: 20061108-0096.

Comment Date: 5 p.m. Eastern Time on Monday, November 27, 2006.

Docket Numbers: ER06-1219-002.

Applicants: ISO New England Inc.

Description: Unitil Energy Systems Inc and Fitchburg Gas & Electric Light Co in compliance submit Second Revised Sheet 3801 and Second Revised Sheet 4001.

Filed Date: 10/30/2006.

Accession Number: 20061108-0095.

Comment Date: 5 p.m. Eastern Time on Monday, November 20, 2006.

Docket Numbers: ER07-4-002.

Applicants: Southwest Power Pool, Inc.

Description: The Empire District Electric Company submits a Notice of Cancellation regarding the Interconnection Agreement with Empire and Southwestern Electric Power Co for the Flint Creek Power Plant.

Filed Date: 11/06/2006.

Accession Number: 20061109-0103.

Comment Date: 5 p.m. Eastern Time on Monday, November 27, 2006.

Docket Numbers: ER07-4-003.

Applicants: Southwest Power Pool, Inc.

Description: Southwestern Electric Power Co submits a Notice of Cancellation of the Interconnection Agreement with Empire District Electric Co under ER82-135 et al.

Filed Date: 11/07/2006.

Accession Number: 20061109-0102.

Comment Date: 5 p.m. Eastern Time on Tuesday, November 28, 2006.

Docket Numbers: ER07-37-000.

Applicants: Carolina Power & Light Company.

Description: Carolina Power & Light Co dba Progress Energy Carolina Inc submits a notice of withdrawal.

Filed Date: 11/06/2006.

Accession Number: 20061108-0087.

Comment Date: 5 p.m. Eastern Time on Monday, November 27, 2006.

Docket Numbers: ER07-165-000.

Applicants: Southern Company Services, Inc.

Description: Southern Companies Services Inc on behalf of Southern Operating Companies submits 2007 Informational Filing to its OATT, FERC Electric Tariff, Fourth Revised Volume 5.

Filed Date: 11/02/2006.

Accession Number: 20061106-0015.

Comment Date: 5 p.m. Eastern Time on Friday, November 24, 2006.

Docket Numbers: ER07-173-000.

Applicants: Tampa Electric Company.

Description: Tampa Electric Co's application for order accepting amendment to market-based rate wholesale power sales tariff, FERC Electric tariff, First Revised Volume No. 5.

Filed Date: 11/03/2006.

Accession Number: 20061108-0046.

Comment Date: 5 p.m. Eastern Time on Friday, November 24, 2006.

Docket Numbers: ER07-174-000.

Applicants: Osceola Windpower, LLC.

Description: Osceola Windpower, LLC's request for authorization to sell energy and capacity at market-based rates.

Filed Date: 11/03/2006.

Accession Number: 20061108-0044.

Comment Date: 5 p.m. Eastern Time on Friday, November 24, 2006.

Docket Numbers: ER07-176-000.

Applicants: San Diego Gas & Electric Company.

Description: San Diego Gas and Electric Company submits application for the approval of final electric interconnection cost charged to Kumeyaay Wind, LLC.

Filed Date: 11/01/2006.

Accession Number: 20061108-0039.

Comment Date: 5 p.m. Eastern Time on Wednesday, November 22, 2006.

Docket Numbers: ER07-177-000.

Applicants: NCSU Energy, Inc.

Description: NCSU Energy, Inc submits Petition for Acceptance of Initial Tariff, Waivers and Blanket Authority and request acceptance of its FERC Electric Tariff, Original Volume No. 1.

Filed Date: 11/02/2006.

Accession Number: 20061108-0038.

Comment Date: 5 p.m. Eastern Time on Friday, November 24, 2006.

Docket Numbers: ER07-178-000.

Applicants: Arizona Public Service Company.

Description: Arizona Public Service Company submits correction to a typographical error on Schedule 11, Retail Network Integration Transmission Service and Ancillary Services.

Filed Date: 11/02/2006.

Accession Number: 20061108-0037.

Comment Date: 5 p.m. Eastern Time on Friday, November 24, 2006.

Docket Numbers: ER07-179-000.

Applicants: Central Hudson Gas & Electric Corp.

Description: Central Hudson Gas and Electric Corporation submits Notice of Cancellation of its Rate Schedule FERC No. 50.

Filed Date: 11/02/2006.

Accession Number: 20061108-0036.

Comment Date: 5 p.m. Eastern Time on Friday, November 24, 2006.

Docket Numbers: ER07-180-000.

Applicants: Central Hudson Gas & Electric Corp.

Description: Central Hudson Gas & Electric Corp submits a Notice of Cancellation of its Rate Schedule No. 52.

Filed Date: 11/02/2006.

Accession Number: 20061108-0042.

Comment Date: 5 p.m. Eastern Time on Friday, November 24, 2006.

Docket Numbers: ER07-181-000.

Applicants: PJM Interconnection, LLC.

Description: PJM Interconnection, LLC submits an executed interconnection service agreement among PJM, Mt. Storm Wind Force, LLC and Monongahela Power Company d/b/a Allegheny Power Company.

Filed Date: 11/06/2006.

Accession Number: 20061108-0040.

Comment Date: 5 p.m. Eastern Time on Monday, November 27, 2006.

Docket Numbers: ER07-182-000.

Applicants: Boston Edison Company.

Description: Boston Edison Company submits First Amendment to Interconnection Agreement with the Massachusetts Bay Transportation Authority along with Boston Edison Company's Rate Schedule 201 effective 1/2/07.

Filed Date: 11/06/2006.

Accession Number: 20061108-0033.

Comment Date: 5 p.m. Eastern Time on Monday, November 27, 2006.

Docket Numbers: ER07-183-000.

Applicants: American Electric Power Service Corp.

Description: American Electric Power Service Corporation submits Seventh Revised Interconnection and Local Delivery Service Agreement with Buckeye Power, Inc.

Filed Date: 11/06/2006.

Accession Number: 20061108-0034.

Comment Date: 5 p.m. Eastern Time on Monday, November 27, 2006.

Docket Numbers: ER07-184-000.

Applicants: American Electric Power Service Corp.

Description: American Electric Power Service Corporation submits Third Revised to the Interconnection and Local Delivery Service Agreement 1253 under OATT with Hoosier Energy Rural Electric Cooperative, Inc.

Filed Date: 11/06/2006.

Accession Number: 20061108-0035.

Comment Date: 5 p.m. Eastern Time on Monday, November 27, 2006.

Docket Numbers: ER07-185-000.

Applicants: PJM Interconnection, LLC.

Description: PJM Interconnection, LLC submits an executed Interconnection Service Agreement with the Dayton Power and Light Company pursuant to section 205 of the Federal Power Act.

Filed Date: 11/06/2006.

Accession Number: 20061109-0059.

Comment Date: 5 p.m. Eastern Time on Monday, November 27, 2006.

Docket Numbers: ER07-186-000.

Applicants: California Independent System Operator Corporation.

Description: California Independent System Operator Corp submits an informational filing intended to provide notice to the revised transmission Access Charges effective 9/1/06.

Filed Date: 11/07/2006.

Accession Number: 20061109-0101.

Comment Date: 5 p.m. Eastern Time on Tuesday, November 28, 2006.

Docket Numbers: ER07-187-000.

Applicants: ISO New England Inc.

Description: ISO New England Inc et al. submits a new alternative Pro Forma Market Participant Service Agreement etc. pursuant to section 205 of the Federal Power Act.

Filed Date: 11/07/2006.

Accession Number: 20061109-0105.

Comment Date: 5 p.m. Eastern Time on Friday, November 17, 2006.

Take notice that the Commission received the following foreign utility company status filings:

Docket Numbers: FC07-4-000.

Applicants: InterGen (International) B.V.

Description: Notification of Self Certification of Foreign Utility Company Status of InterGen (International) B.V.

Filed Date: 11/06/2006.

Accession Number: 20061106-5013.

Comment Date: 5 p.m. Eastern Time on Monday, November 27, 2006.

Docket Numbers: FC07-5-000.

Applicants: Tipitapa Power Company, Ltd.

Description: El Paso Corporation submits Notice of Self Certification of Foreign Utility Company Status.

Filed Date: 11/07/2006.

Accession Number: 20061108-0167.

Comment Date: 5 p.m. Eastern Time on Tuesday, November 28, 2006.

Any person desiring to intervene or to protest in any of the above proceedings must file in accordance with Rules 211 and 214 of the Commission's Rules of Practice and Procedure (18 CFR 385.211 and § 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-19349 Filed 11-15-06; 8:45 am]

BILLING CODE 6717-01-P